DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 29, 2010.

Interested persons are invited to submit written comments regarding the subject matter of the investigations to the Director, Division of Trade Adjustment Assistance, at the address shown below, not later than April 29, 2010.

The petitions filed in this case are available for inspection at the Division of Trade Adjustment Assistance, Employment and Training Administration, U.S. Department of Labor, Room N-5428, 200 Constitution Avenue, NW., Washington, DC 20210.

Signed at Washington, DC this 7th day of April 2010.
Elliott Kushner,
Certifying Officer, Division of Trade Adjustment Assistance.

Appendix
[TAA Petitions Instituted between 3/8/10 and 3/12/10]
TA-W | Subject firm (petitioners) | Location | Date of institution | Date of petition
73651 | File-EZ Folder, Inc. (Comp) | Spokane, WA | 03/08/10 | 03/05/10
73652 | Robert Bosch, LLC (State) | Plymouth, MI | 03/08/10 | 02/10/10
73653 | Heartland Companies, Ltd. (Wkrs) | San Francisco, CA | 03/08/10 | 02/10/10
73654 | Bose Corporation (State) | Framingham, MA | 03/08/10 | 03/01/10
73655 | Camson Pipe Company (Wkrs) | Erie, PA | 03/08/10 | 03/05/10
73656 | JK Products and Services, Inc. (Wkrs) | Jonesboro, AR | 03/08/10 | 03/05/10
73657 | SunGard Public Sector (Comp) | Lake Mary, FL | 03/08/10 | 03/05/10
73658 | Arrow Truck Sales (State) | Montebello, CA | 03/08/10 | 02/16/10
73659 | Meridian Enterprises Corporation (Wkrs) | Hazelwood, MO | 03/08/10 | 03/01/10
73660 | iLevel by Weyerhaeuser (Comp) | Boise, ID | 03/09/10 | 03/08/10
73661 | Maersk Agency USA, Inc. (Wkrs) | Charlotte, NC | 03/09/10 | 03/01/10
73662 | Saxon (State) | Elk River, MN | 03/09/10 | 01/06/10
73663 | Appleton Papers, Inc. (Comp) | Appleton, WI | 03/09/10 | 03/08/10
73664 | Coloplast US Headquarters (State) | Vadwais Heights, MN | 03/09/10 | 03/08/10
73665 | Peek Traffic Corporation (Wkrs) | Bedford, PA | 03/09/10 | 03/08/10
73666 | Badger Meter, Inc. (Comp) | Milwaukee, WI | 03/09/10 | 02/22/10
73667 | Saint-Gobain Performance Plastics (Comp) | Bristol, RI | 03/09/10 | 03/08/10
73668 | Swets (State) | Runnemede, NJ | 03/10/10 | 03/09/10
73669 | Lazar Industries, LLC (Comp) | Siler City, NC | 03/10/10 | 03/08/10
73670 | Bimbo Bakeries USA (Comp) | Houston, TX | 03/10/10 | 01/28/10
73671 | Vygon US, LLC (Comp) | Valley Forge, PA | 03/10/10 | 02/26/10
73672 | Continental Automotive Systems, Inc. (Comp) | Elma, NY | 03/10/10 | 03/09/10
73673 | General Motors Corporation (Comp) | Detroit, MI | 03/10/10 | 03/08/10
73674 | E. W. Daniel Company (USW) | Cleveland, OH | 03/10/10 | 02/11/10
73675 | Franklin Templeton Investments Company, LLC (Wkrs) | San Mateo, CA | 03/10/10 | 02/24/10
73676 | Adria Healthcare (Wkrs) | Irving, TX | 03/10/10 | 03/08/10
73677 | Robert Busch, LLC (State) | Plymouth, MI | 03/10/10 | 02/10/10
73678 | New United Motor Manufacturing, Inc. (Comp) | Fremont, CA | 03/10/10 | 02/22/10
73679 | Liz Claiborne, Inc. (Wkrs) | North Bergen, NJ | 03/10/10 | 02/18/10
73680 | Bleden (Hirschmann Automation and Controls) (Wkrs) | Chambersburg, PA | 03/10/10 | 03/01/10
73681 | Grant Products International (Wkrs) | Brownsville, TX | 03/11/10 | 03/10/10
73682 | Hartford Financial Services Group, Inc. (State) | Aurora, IL | 03/11/10 | 03/10/10
73683 | Contour Aerospace—A Vought Company (Comp) | Everett, WA | 03/11/10 | 03/10/10
73684 | Graphic Packaging (Wkrs) | Lawrenceburg, TN | 03/11/10 | 02/17/10
73685 | Northwestern Precision Manufacturing (Wkrs) | Vernon Hills, IL | 03/11/10 | 03/10/10
73686 | MWH Americas (Human Resources (Wkrs) | Broomfield, CO | 03/11/10 | 03/03/10
73687 | Somerset Plastics, Inc. (Comp) | Somerset, PA | 03/11/10 | 03/05/10
73688 | Double AA Parking and Trucking, Inc. (Wkrs) | Calexico, CA | 03/11/10 | 03/05/10
73689 | General Motors Component Holdings, LLC (Comp) | Kokomo, IN | 03/11/10 | 03/08/10
73690 | LSI Industries, Inc. (Comp) | Cincinnati, OH | 03/11/10 | 03/05/10
73691 | R. E. Phelon Company, Inc. (Rep) | Aiken, SC | 03/11/10 | 03/10/10
73692 | Perot Systems (Dell) (Wkrs) | Plano, TX | 03/11/10 | 02/27/10
73693 | Sony Ericsson, USA (Wkrs) | RTP, NC | 03/11/10 | 02/15/10
73694 | Travelers Indemnity Company (Wkrs) | Hartford, CT | 03/11/10 | 03/08/10
73695 | Woodland Mills (Wkrs) | Mill Spring, NC | 03/11/10 | 03/10/10
73696 | Deloitte FAS LLP (State) | Houston, TX | 03/11/10 | 05/27/09
73697 | Federal Coach (Wkrs) | Fort Smith, AR | 03/12/10 | 03/12/10
73698 | Holloway Sportswear Inc. (Wkrs) | Jackson Center, OH | 03/12/10 | 03/01/10
73699 | ABM Janitorial (Wkrs) | Fremont, CA | 03/12/10 | 03/11/10
73700 | Roche Diagnostics Operations, Centralized Diagnostics (Wkrs) | Indianapolis, IN | 03/12/10 | 03/11/10
73701 | Acuity Brands Lighting (Comp) | Cochran, GA | 03/12/10 | 03/11/10
73702 | Komatsu Latin America (Wkrs) | Miami, FL | 03/12/10 | 03/11/10

[FR Doc. 2010-8866 Filed 4-16-10; 8:45 am]

BILLING CODE 4510-FN-P